DEPARTMENT OF COMMERCE

National Oceanic and Atmospheric Administration

I.D. 122704A

Mid-Atlantic Fishery Management Council (MAFMC); Meetings

AGENCY: National Marine Fisheries Service (NMFS), National Oceanic and Atmospheric Administration (NOAA), Commerce.

ACTION: Notice of public meeting.

SUMMARY: The Mid-Atlantic Fishery Management Council (Council) and its Protected Resources Committee; its Squid, Mackerel, Butterfish Committee; its Magnuson-Stevens Fishery Conservation and Management Act (Magnuson-Stevens Act) Reauthorization Committee; its Executive Committee; and, Ecosystems Committee will hold public meetings.

DATES: Tuesday, January 18, 2005 through Thursday, January 20, 2005. On Tuesday, January 18 the Protected Resources Committee will meet from 9-11 a.m. The Squid, Mackerel, Butterfish Committee will meet from 11 a.m. through 1 p.m., and the MSA Reauthorization Committee will meet from 2-5 p.m. On Wednesday, January 19 from 8:30-9:30 a.m., the Executive Committee will meet and the Council will convene at 9:30 a.m. From 9:30 a.m. through 12:00 noon, Council will approve the October and December Council meeting minutes, hear organizational and liaison reports. At 1 p.m., Council will present its 2004 Fisheries Achievement Award; from 1:15-2 p.m., Council will hear a National Marine Fisheries Service (NMFS) presentation regarding “Front Loading” requirements of regulatory actions; and, from 2-4 p.m., Council will meet as a Committee of the Whole for the Demersal Committee. On Thursday, January 20 the Ecosystem Committee will meet from 8-10 a.m. Council will convene at 10 a.m., and from 10-11 a.m. will receive a NMFS presentation regarding its Northeast Regional Office's (NERO) updated Draft Regional Bycatch Plan. At 11 a.m. Council will receive status of the Council's Fishery Management Plans, hear the Executive Director's Report, and address any new and/or continuing business.

ADDRESSES: This meeting will be at the Radisson Hotel Hampton, 700 Settler's Landing Road, Hampton, VA, telephone 757-727-9700.

Council address: Mid-Atlantic Fishery Management Council, 300 S. New Street, Dover, DE 19904, telephone 302-674-2331.

FOR FURTHER INFORMATION CONTACT: Daniel T. Furlong, Executive Director, Mid-Atlantic Fishery Management Council; telephone: 302-674-2331, ext. 19.

SUPPLEMENTARY INFORMATION: Agenda items for the Council's committees and the Council itself are: on January 18 the Protected Resources Committee will review and comment on a November 10, 2004 proposed rule regarding NMFS' Bottlenose Dolphin Take-Reduction Plan. The Squid, Mackerel, Butterfish Committee will review the Public Hearing Document (PHD) and Draft Supplemental Environmental Impact Study (SEIS) for Amendment 9 to the Squid, Mackerel, Butterfish Fishery Management Plan. The Magnuson-Stevens Act Reauthorization Committee will review and discuss proposed changes to the Magnuson-Stevens Act and develop a Council position for suggested changes to the Act. On January 19 the Executive Committee will review changes in the Council's Statement of Organization Practices and Procedures regarding pay administration for staff. Following the Executive Committee, the Council will convene and approve the October and December Council meeting minutes and hear organizational and liaison reports. Beginning its afternoon session, the Council will present its 2004 Fisheries Achievement Award to the Virginia Marine Resources Commission's Law Enforcement Unit, and receive a presentation by the National Marine Fisheries Service (NMFS) regarding “Front Loading” requirements for regulatory actions. The Council will then meet as a Committee of the Whole for the Demersal Committee to review and comment on the status of action for Amendment 14 to the Summer Flounder, Scup, and Black Sea Bass Fishery Management Plan (Pre-Scoping). On Thursday, January 20 the Ecosystem Committee will review the NMFS Northeast Science Center's ecosystem efforts regarding development of science-based approaches to fishery management. The Council will convene at 10 a.m. to receive a presentation from NMFS/NERO regarding its updated Draft Regional Bycatch Plan; hear staff and committee reports; and, act on any new and/or continuing business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

Special Accommodations

This meeting is physically accessible to people with disabilities. Requests for sign language interpretation or other auxiliary aids should be directed to Debbie Donnangelo (302-674-2331) at least 5 days prior to the meeting date.

Dated: December 27, 2004.
Alan D. Risenhoover,
Acting Director, Office of Sustainable Fisheries, National Marine Fisheries Service.

[FR Doc. E4-3897 Filed 12-29-04; 8:45 am]

BILLING CODE 3510-22-S